DEPARTMENT OF TRANSPORTATION

Federal Aviation Administration

14 CFR Part 39

[Docket No. FAA-2013-0789; Directorate Identifier 2013-NM-127-AD; Amendment 39-17782; AD 2014-05-09]

RIN 2120-AA64

Airworthiness Directives; The Boeing Company Airplanes

AGENCY: Federal Aviation Administration (FAA), DOT.

ACTION: Final rule.

SUMMARY: We are superseding Airworthiness Directive (AD) 2012-12-08 for certain The Boeing Company Model 777-200 and -300 series airplanes. AD 2012-12-08 required an inspection for the part number of the main landing gear retract actuator fuse pin, and replacement of the pin if necessary. This new AD retains the actions required by AD 2012-12-08 and adds airplanes to the applicability. This AD was prompted by a determination that additional airplanes may be subject to the identified unsafe condition. We are issuing this AD to prevent structural damage to the side and drag brace lock assemblies, which could result in landing gear collapse during touchdown, rollout, or taxi.

DATES: This AD is effective April 14, 2014.

The Director of the Federal Register approved the incorporation by reference of a certain publication listed in this AD as of April 14, 2014.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0789; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Melanie Violette, Aerospace Engineer, Airframe Branch, ANM-120S, FAA, Seattle Aircraft Certification Office, 1601 Lind Avenue SW., Renton, WA 98057-3356; phone: 425-917-6422; fax: 425-917-6590; email: melanie.violette@faa.gov.

SUPPLEMENTARY INFORMATION:

Discussion

We issued a notice of proposed rulemaking (NPRM) to amend 14 CFR part 39 to supersede AD 2012-12-08, Amendment 39-17088 (77 FR 37781, June 25, 2012). (A correction of AD 2012-12-08 was published in the Federal Register on July 20, 2012 (77 FR 42625)). AD 2012-12-08 applied to certain The Boeing Company Model 777-200 and -300 series airplanes. The NPRM published in the Federal Register on September 19, 2013 (78 FR 57542). The NPRM was prompted by a determination that additional airplanes may be subject to the identified unsafe condition. The NPRM also proposed to continue to require the actions required by AD 2012-12-08. The NPRM also proposed to add airplanes to the applicability; and to require an inspection for the part number of the main landing gear retract actuator fuse pin, and replacement of the pin if necessary. We are issuing this AD to prevent structural damage to the side and drag brace lock assemblies, which could result in landing gear collapse during touchdown, rollout, or taxi.

Comments

We gave the public the opportunity to participate in developing this AD. The following presents the comments received on the proposal (78 FR 57542, September 19, 2013) and the FAA's response to each comment.

Request for Clarification of Compliance Time

Boeing requested that we revise the last sentence of paragraph (g) of the NPRM (78 FR 57542, September 19, 2013) to add the phrase, “Except as required by paragraph (h) of this AD,” at the beginning of the sentence. Boeing reasoned that it is unclear if the replacement referred to in the last sentence should be done within the specified compliance time after the release date of Boeing Special Attention Service Bulletin 777-32-0083, Revision 2, dated May 2, 2013, or within the specified compliance time after the effective date of this AD.

We agree to revise this final rule for the reasons stated by Boeing. We have revised paragraph (g) of this final rule accordingly.

Conclusion

We reviewed the relevant data, considered the comment received, and determined that air safety and the public interest require adopting this AD with the change described previously and minor editorial changes. We have determined that these minor changes:

• Are consistent with the intent that was proposed in the NPRM (78 FR 57542, September 19, 2013) for correcting the unsafe condition; and

• Do not add any additional burden upon the public than was already proposed in the NPRM (78 FR 57542, September 19, 2013).

We also determined that these changes will not increase the economic burden on any operator or increase the scope of this AD.

Costs of Compliance

We estimate that this AD affects 129 airplanes of U.S. registry.

We estimate the following costs to comply with this AD:

Estimated Costs
Action | Labor cost | Parts cost | Cost per product | Cost on U.S. operators
Inspection | 5 work-hours × $85 per hour = $425 | $0 | $425 | $54,825

We estimate the following costs to do any necessary replacements that would be required based on the results of the inspection. We have no way of determining the number of aircraft that might need these replacements:

On-Condition Costs
Action | Labor cost | Parts cost | Cost per product
Pin Replacement | 1 work-hour × $85 per hour = $85 per pin | $700 per pin | $785 per pin.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-12-08, Amendment 39-17088 (77 FR 37781, June 25, 2012; corrected July 20, 2012 (77 FR 42625)), and adding the following new AD:

2014-05-09 The Boeing Company: Amendment 39-17782; Docket No. FAA-2013-0789; Directorate Identifier 2013-NM-127-AD.

(a) Effective Date

This AD is effective April 14, 2014.

(b) Affected ADs

This AD supersedes AD 2012-12-08, Amendment 39-17088 (77 FR 37781, June 25, 2012; corrected July 20, 2012 (77 FR 42625)).

(c) Applicability

This AD applies to The Boeing Company Model 777-200 and -300 series airplanes, certificated in any category, as identified in Boeing Special Attention Service Bulletin 777-32-0083, Revision 2, dated May 2, 2013.

(d) Subject

Air Transport Association (ATA) of America Code 32, Landing Gear.

(e) Unsafe Condition

This AD was prompted by a determination that additional airplanes may be subject to the identified unsafe condition. We are issuing this AD to prevent structural damage to the side and drag brace lock assemblies, which could result in landing gear collapse during touchdown, rollout, or taxi.

(f) Compliance

Comply with this AD within the compliance times specified, unless already done.

(g) Part Number Inspection and Replacement

Except as required by paragraph (h) of this AD, at the applicable time specified in paragraph 1.E., “Compliance,” of Boeing Special Attention Service Bulletin 777-32-0083, Revision 2, dated May 2, 2013: Inspect the retract actuator fuse pin to determine the part number, and replace any retract actuator fuse pin having part number 112W1769-1, in accordance with the Accomplishment Instructions of Boeing Special Attention Service Bulletin 777-32-0083, Revision 2, dated May 2, 2013. A review of airplane maintenance records is acceptable in lieu of this inspection if the part number of the retract actuator fuse pin can be conclusively determined from that review. Except as required by paragraph (h) of this AD, do all applicable replacements at the applicable time specified in paragraph 1.E., “Compliance,” of Boeing Special Attention Service Bulletin 777-32-0083, Revision 2, dated May 2, 2013.

(h) Exception to Service Information Specifications

Where Boeing Special Attention Service Bulletin 777-32-0083, Revision 2, dated May 2, 2013, specifies a compliance time “after the Revision 2 date of this service bulletin,” this AD requires compliance within the specified compliance time after the effective date of this AD.

(i) Parts Installation Prohibition

(1) For airplanes identified in Group 1 of Boeing Special Attention Service Bulletin 777-32-0083, Revision 2, dated May 2, 2013: As of July 30, 2012 (the effective date of AD 2012-12-08, Amendment 39-17088 (77 FR 37781, June 25, 2012; corrected July 20, 2012 (77 FR 42625)), no person may install a retract actuator fuse pin having part number 112W1769-1 on any airplane.

(2) For airplanes identified in Group 2 of Boeing Special Attention Service Bulletin 777-32-0083, Revision 2, dated May 2, 2013: As of the effective date of this AD, no person may install a retract actuator fuse pin having part number 112W1769-1 on any airplane.

(j) Credit for Previous Actions

(1) This paragraph provides credit for the actions specified in paragraph (g) of this AD, if those actions were performed before the effective date of AD 2012-12-08, Amendment 39-17088 (77 FR 37781, June 25, 2012; corrected July 20, 2012 (77 FR 42625)), using Boeing Special Attention Service Bulletin 777-32-0083, dated February 5, 2009, which is not incorporated by reference in this AD.

(2) This paragraph provides credit for the actions specified in paragraph (g) of this AD, if those actions were performed before the effective date of this AD using Boeing Special Attention Service Bulletin 777-32-0083, Revision 1, dated February 17, 2011, which is not incorporated by reference in this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(l) Related Information

(1) For more information about this AD, contact Melanie Violette, Aerospace Engineer, Airframe Branch, ANM-120S, FAA, Seattle Aircraft Certification Office, 1601 Lind Avenue SW., Renton, WA 98057-3356; phone: 425-917-6422; fax: 425-917-6590; email: melanie.violette@faa.gov.

(2) Service information identified in this AD that is not incorporated by reference in this AD may be obtained at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 777-32-0083, Revision 2, dated May 2, 2013.

(ii) Reserved.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 18, 2014.
Ross Landes,
Acting Manager, Transport Airplane Directorate, Aircraft Certification Service.

[FR Doc. 2014-04588 Filed 3-7-14; 8:45 am]

BILLING CODE 4910-13-P